INTERNATIONAL TRADE COMMISSION

[Investigations Nos. 731-TA-875, 880, and 882 (Final)]

Certain Steel Concrete Reinforcing Bars From Indonesia, Poland, and Ukraine

Determinations

On the basis of the record ¹ developed in the subject investigations, the United States International Trade Commission determines, pursuant to section 735(b) of the Tariff Act of 1930 (19 U.S.C. 1673d(b)) (the Act), that an industry in the United States is materially injured by reason of imports from Indonesia, Poland, and Ukraine of certain steel concrete reinforcing bars,² provided for in subheading 7214.20.00 of the Harmonized Tariff Schedule of the United States, that have been found by the Department of Commerce to be sold in the United States at less than fair value (LTFV).

¹ The record is defined in sec. 207.2(f) of the Commission's Rules of Practice and Procedure (19 CFR 207.2(f)).

² Chairman Stephen Koplan, Vice Chairman Deanna Tanner Okun, and Commissioner Lynn M. Bragg determine that a regional industry in the United States is materially injured by reason of imports from Indonesia, Poland, and Ukraine of certain steel concrete reinforcing bars. The defined region consists of all the states east of the Mississippi plus Arkansas, Louisiana, Missouri, and Texas, as well as the District of Columbia and Puerto Rico. Commissioner Marcia E. Miller, Commissioner Jennifer A. Hillman, and Commissioner Dennis M. Devaney determine that an industry in the United States is materially injured by reason of imports from Indonesia, Poland, and Ukraine of certain steel concrete reinforcing bars. The Commission also determined that critical circumstances did not exist with respect to subject imports from Poland and Ukraine.

Background

The Commission instituted these investigations effective June 28, 2000, following receipt of petitions filed with the Commission and Commerce by the Rebar Trade Action Coalition (RTAC) (Washington, DC) and its individual members.³ The final phase of the investigations was scheduled by the Commission following notification of preliminary determinations by Commerce that imports of certain steel concrete reinforcing bars from Indonesia, Poland, and Ukraine were being sold at LTFV within the meaning of section 733(b) of the Act (19 U.S.C. 1673b(b)). Notice of the scheduling of the Commission's investigations and of a public hearing to be held in connection therewith was given by posting copies of the notice in the Office of the Secretary, U.S. International Trade Commission, Washington, DC, and by publishing the notice in the Federal Register of February 14, 2001 (66 FR 10317). The hearing was held in Washington, DC, on April 5, 2001, and all persons who requested the opportunity were permitted to appear in person or by counsel.

³ The individual members of RTAC on whose behalf the petitions were filed are as follows: AmeriSteel (Tampa, FL); Auburn Steel Co., Inc. (Auburn, NY); Birmingham Steel Corp. (Birmingham, AL); Border Steel, Inc. (El Paso, TX); CMC Steel Group (Seguin, TX); Marion Steel Co. (Marion, OH); Nucor Steel (Darlington, SC); and Riverview Steel (Glassport, PA). Auburn was not a petitioner with respect to Indonesia.

The Commission transmitted its determinations in these investigations to the Secretary of Commerce on May 25, 2001. The views of the Commission are contained in USITC Publication 3425 (May 2001), entitled Certain Steel Concrete Reinforcing Bars from Indonesia, Poland, and Ukraine: Investigations Nos. 731-TA-875, 880, and 882 (Final).

Issued: May 17, 2001.
By order of the Commission.
Donna R. Koehnke,
Secretary.

[FR Doc. 01-12884 Filed 5-22-01; 8:45 am]

BILLING CODE 7020-02-P